DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of 3 individuals and 2 entities whose property and interests in property have been unblocked pursuant to the Foreign Narcotics Kingpin Designation Act (“Kingpin Act”) (21 U.S.C. Sections 1901-1908, 8 U.S.C. Section 1182).

DATES: The unblocking and removal from the list of Specially Designated Nationals and Blocked Persons (“SDN List”) of the 3 individuals and 2 entities identified in this notice whose property and interests in property were blocked pursuant to the Kingpin Act, is effective on June 12, 2013.

FOR FURTHER INFORMATION CONTACT: Assistant Director, Sanctions Compliance & Evaluation, Department of the Treasury, Office of Foreign Assets Control, Washington, DC 20220 Tel: (202) 622-2420

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On June 12, 2013, the Director of OFAC removed from the SDN List the 3 individuals and 2 entities listed below, whose property and interests in property were blocked pursuant to the Kingpin Act:

Individuals

BELTRAN SANCHEZ, Rosario, c/o FABRIDIESEL, S.A. DE C.V., Los Mochis, Sinaloa, Mexico; DOB 05 Oct 1952; POB Los Mochis, Sinaloa, Mexico; nationality Mexico; citizen Mexico (individual) [SDNTK].

ZERMENO BELTRAN, Guillermo, c/o FABRIDIESEL, Los Mochis, Sinaloa, Mexico; DOB 20 Dec 1977; POB Mexico; nationality Mexico; citizen Mexico; R.F.C. ZEBG771220-PE6 (Mexico) (individual) [SDNTK].

ZERMENO BELTRAN, Patricia, c/o FABRIDIESEL, S.A. DE C.V., Los Mochis, Sinaloa, Mexico; DOB 25 May 1975; POB Los Mochis, Sinaloa, Mexico; nationality Mexico; citizen Mexico (individual) [SDNTK].

Entities

FABRIDIESEL, Juan De Dios Batiz 690 OTE, Colonia El Parque, Los Mochis, Sinaloa 81250, Mexico; R.F.C. ZEBG-771220-PE6 (Mexico) [SDNTK].

FABRIDIESEL, S.A. DE C.V., Blvd. Juan De Dios Batiz 712 OTE, Los Mochis, Sinaloa, Mexico [SDNTK].

Dated: June 12, 2013.
Adam J. Szubin,
Director, Office of Foreign Assets Control.

[FR Doc. 2013-14464 Filed 6-17-13; 8:45 am]

BILLING CODE 4810-AL-P